DEPARTMENT OF ENERGY

Federal Energy Regulatory Commission

[Docket No. EL04-56-000, et al.]

New York Municipal Power Agency, et al.; Electric Rate and Corporate Filings

January 20, 2004.

The following filings have been made with the Commission. The filings are listed in ascending order within each docket classification.

1. New York Municipal Power Agency, Complaint v. New York State Electric & Gas Corporation, Respondent

[ Docket No. EL04-56-000]

Take notice that on January 16, 2004, the New York Municipal Power Authority, on behalf of its affected member municipal systems (NYMPA), filed a Complaint concerning certain elements of the Transmission Service Charge currently assessed by the New York State Electric & Gas Corporation (NYSEG) under Attachment H of the Open Access Transmission Tariff of the New York Independent System Operator, Inc.

NYMPA states that a copy of the Complaint was served on NYSEG.

Comment Date: February 5, 2004.

2. Northbrook New York, LLC

[Docket No. ER99-3911-002]

Take notice that on January 13, 2004, Northbrook New York, LLC tendered for filing its triennial review in compliance with the Commission's Order in Oswego Harbor Power LLC, et. al., Docket No. ER99-3637-000, 88 FERC ¶ 61,219 (1999), which gave Northbrook market-based rate authorization.

Comment Date: February 3, 2004.

3. New England Power Pool ISO New England Inc.

[Docket No. ER03-1318-003]

Take notice that on January 13, 2004, ISO New England Inc. (ISO) submitted a Compliance Report in Docket No. ER03-1318-000 as directed by the Commission in its November 14, 2003 Order Accepting Forward Reserve Market Filing, 105 FERC ¶ 61,204. The ISO states that copies of the filing have been served on all parties to the above-captioned proceeding.

Comment Date: February 3, 2004.

4. Sempra Energy Trading Corp.

[Docket Nos. ER03-1413-002]

Take notice that on January 14, 2004, Sempra Energy Trading Corp. (SET) submitted for filing a revised rate schedule, modifying the rate schedule submitted on November 24, 2003 in the above-referenced docket.

Comment Date: January 30, 2004.

5. Mountain View Power Partners III, LLC

[Docket Nos. ER04-94-001]

Take notice that on January 14, 2004, Mountain View Power Partners III, LLC (Mountain View) tendered for filing in accordance with 18 CFR 35 of the Commission's Rules and Regulations revisions to Mountain View's market-based rate tariff designated as FERC Electric Tariff, First Rev.Volume No. 1. Mountain View requests waiver of the Commission's prior notice requirements so that the revisions may be effective on December 17, 2003 in compliance with the Commission's Order in Docket No. EL01-118, 105 FERC ¶ 61,218 (November 17, 2003).

Mountain View states that it has served a copy of this filing on all parties designated on the official service list compiled by the Secretary in this proceeding.

Comment Date: February 4, 2004.

6. NRG Northern Ohio Generating LLC

[Docket No. ER04-106-000]

Take notice that on January 14, 2004, NRG Northern Ohio Generating LLC (NRG Northern Ohio) submitted pursuant to Section 35.15 of the Federal Energy Regulatory Commission's regulations, 18 CFR 35.15, a notice canceling NRG Northern Ohio's FERC Rate Schedule No. 1 and Service Agreement No. 1 thereunder. NRG Northern Ohio requests that the cancellation be made effective January 14, 2004.

Comment Date: February 4, 2004.

7. Avista Corporation

[Docket No. ER04-196-001]

Take notice that on January 13, 2004, Avista Corporation (Avista) tendered for filing pursuant to Section 205 of the Federal Power Act, a replacement certificate of concurrence by Portland General Electric Company for Rate Schedule No. 701. The Rate Schedule was initially filed on November 17, 2003 in Docket No. ER04-196-000. Avista is requesting November 1, 2003 as the effective date.

Comment Date: February 3, 2004.

8. PacifiCorp

[Docket No. ER04-398-000]

Take notice that on January 13, 2004, PacifiCorp submitted for filing the 2003-04 Operating Procedures with respect to the 1997 Pacific Northwest Coordination Agreement ( the 1997 PNCA). PacifiCorp states that the 2003-04 Operating Procedures amend the 1997 PNCA.

PacifiCorp further states that copies of the filing were served on the parties to the 1997 PNCA.

Comment Date: February 3, 2004.

9. Westar Energy, Inc.

[Docket No. ER04-399-000]

Take notice that on January 13, 2004, Westar Energy, Inc. (Westar) submitted for filing an Interconnection Agreement between Westar and Kaw Valley Electric Cooperative, Inc (Kaw Valley). Westar states that this filing allows it to deliver electric power and energy across Kaw Valley's facilities for redelivery to Westar's Hoyt, Rossville or Delia metering points from time to time.

Westar states that a copy of this filing was served upon the Kansas Corporation Commission and Kaw Valley

Comment Date: February 3, 2004.

10. Tampa Electric Company

[Docket No. ER04-401-000]

Take notice that on January 14, 2004, Tampa Electric Company (TEC) tendered for filing a notice of cancellation of the Interconnection and Operating Agreement between TEC and CPV Pierce, Ltd. (CPV). TEC requests that the cancellation be made effective on January 5, 2004, as ally agreed by the parties.

TEC states that copies of the filing have been served on CPV and the Florida Public Service Commission.

Comment Date: February 4, 2004.

11. NRG Ashtabula Generating LLC

[Docket No. ER04-402-000]

Take notice that on January 14, 2004, NRG Ashtabula Generating LLC (NRG Ashtabula) submitted pursuant to 18 CFR 35.15 a Notice of Cancellation of FERC Rate Schedule No. 1. NRG Ashtabula requests that the cancellation be made effective January 14, 2004.

Comment Date: February 4, 2004.

12. LSP-Pike Energy LLC

[Docket No. ER04-404-000]

Take notice that on January 14, 2004, LSP-Pike Energy LLC submitted pursuant to 18 CFR 35.15 a Notice of Cancellation of FERC Rate Schedule No. 1. LDP-Pike Energy LLC requests that the cancellation be made effective January 14, 2004.

Comment Date: February 4, 2004.

13. NRG Lake Shore Generating LLC

[Docket No. ER04-405-000]

Take notice that on January 14, 2004, NRG Lake Shore Generating LLC (NRG Lake Shore) submitted pursuant 18 CFR 35.15 a Notice of Cancellation of FERC Rate Schedule No. 1. NRG Lake Shore requests that the cancellation be made effective January 14, 2004.

Comment Date: February 4, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-129 Filed 1-27-04; 8:45 am]

BILLING CODE 6717-01-P